DEPARTMENT OF THE INTERIOR

Bureau of Land Management

[MTM 56312]

Notice of Proposed Withdrawal Extension and Opportunity for Public Meeting; Montana

AGENCY: Bureau of Land Management, Interior.

ACTION: Notice.

SUMMARY: On behalf of the U.S. Department of Agriculture, Forest Service, the Secretary of the Interior proposes to extend Public Land Order No. 6560 for an additional 20-year period. The order withdrew National Forest System land from surface entry and mining to protect the Wisdom Administrative Site. This notice also gives an opportunity to comment on the proposed action and to request a public meeting.

DATES: Comments and requests for a public meeting must be received by August 2, 2004.

ADDRESSES: Comments and meeting requests must be sent to the Montana State Director, Bureau of Land Management, P.O. Box 36800, Billings, Montana 59107-6800. Complimentary copies may be sent to the Regional Forester, Region 1, P.O. Box 7669, Missoula, Montana 59807.

FOR FURTHER INFORMATION CONTACT: Sandra Ward, BLM Montana State Office, P.O. Box 36800, Billings, Montana 59107-6800, 406-896-5052.

SUPPLEMENTARY INFORMATION: The U.S. Department of Agriculture, Forest Service, has filed an application to extend Public Land Order No. 6560 (49 FR 32068, August 10, 1984) for an additional 20-year period. This withdrawal was made to protect the Wisdom Administrative Site and will expire August 5, 2004. An extension, if approved, would continue the withdrawal of National Forest System land from settlement, sale, location, or entry under the general land laws, including the United States mining laws, subject to valid existing rights, and would continue protection of facilities and capital improvements on the following-described land:

T. 2 S., R. 15 W.,

Sec. 34: a parcel of land located in the SW¼SW¼ and NW¼SW¼ (Tract A of Certificate of Survey No. 369).

T. 3 S., R. 15 W.,

Sec. 3: a parcel of land located in lot 4 (Tract B of Certificate of Survey No. 369).

The area described contains 59.99 acres in Beaverhead County.

The Forest Service proposes to extend the withdrawal an additional 20 years. The extension of the withdrawal would protect the facilities and capital improvements within the Wisdom Administrative Site.

In accordance with section 204(f) of the Federal Land Policy and Management Act of 1976, 43 U.S.C. 1714(f), the subject withdrawal may be extended if the Secretary of the Interior determines that the purpose for which the withdrawal was first made requires the extension and then, if so, only for a period not to exceed the duration of the original withdrawal period.

All persons who wish to submit comments, suggestions, objections, or requests for public meetings in connection with the proposed withdrawal extension may present their views in writing to the Montana State Director of the Bureau of Land Management until August 2, 2004.

Notice is hereby given that an opportunity for a public meeting is afforded in connection with the proposed withdrawal extension. All interested persons who desire a public meeting for the purpose of being heard on the proposed extension must submit a written request to the Montana State Director, Bureau of Land Management by August 2, 2004. Upon determination by the authorized officer that a public meeting will be held, a notice of the time and place will be published in the Federal Register and in at least one local newspaper 30 days before the scheduled date of the meeting.

Comments, including names and street addresses of commenters, will be available for public review at the Bureau of Land Management Montana State Office, 5001 Southgate Drive, Billings, Montana, during regular business hours 8 a.m. to 4:30 p.m., Monday through Friday, except holidays. BLM will not consider anonymous comments. However, individual respondents may request anonymity. If you wish to withhold your name or address from public review or from disclosure under the Freedom of Information Act, you must state this prominently at the beginning of your comments. Such request will be honored to the extent allowed by law. All submissions from organizations or businesses will be made available for public inspection in their entirety.

Dated: April 22, 2004.
Chun Wong,
Acting Deputy State Director, Division of Resources.

[FR Doc. 04-15111 Filed 7-1-04; 8:45 am]

BILLING CODE 3410-11-P